DEPARTMENT OF LABOR

Employment and Training Administration

[TA-W-55,587]

General Electric Hickory Facility Conover, NC; Notice of Termination of Investigation

Pursuant to Section 221 of the Trade Act of 1974, as amended, an investigation was initiated on September 9, 2004 in response to a petition filed on behalf of workers of General Electric, Hickory Facility, Conover, North Carolina.

The Department has deemed the petition invalid because the three petitioners belong to different business groups within the corporate structure of General Electric. When filed by workers, a petition must contain a defined worker group to be deemed acceptable for consideration of adjustment assistance eligibility. Consequently, further investigation in this case would serve no purpose, and the investigation has been terminated.

Signed at Washington, DC, this 19th day of October, 2004.
Linda G. Poole,
Certifying Officer, Division of Trade Adjustment Assistance.

[FR Doc. E4-3021 Filed 11-4-04; 8:45 am]

BILLING CODE 4510-30-P